DEPARTMENT OF TRANSPORTATION

Federal Aviation Administration

14 CFR Part 39

[Docket No. 2001-NE-17-AD]

RIN 2120-AA64

Airworthiness Directives; Rolls-Royce plc RB211 Trent 875, 877, 884, 884B, 892, 892B, and 895 Series Turbofan Engines

AGENCY: Federal Aviation Administration (FAA), DOT.

ACTION: Notice of proposed rulemaking (NPRM).

SUMMARY: The FAA proposes to revise an existing airworthiness directive (AD) for Rolls-Royce plc (RR) RB211 Trent 875, 877, 884, 884B, 892, 892B, and 895 series turbofan engines with certain part number (P/N) low pressure compressor (LPC) fan blades installed. That AD currently requires initial and repetitive ultrasonic inspections of the fan blade dovetail roots and defines a specific terminating action to the repetitive blade inspection requirements. This proposed AD would require the same actions but would clarify the terminating action. This proposed AD results from a request by an operator to clarify the terminating action in the existing AD. We are proposing this AD to prevent multiple LPC fan blade failures due to cracks, which could result in uncontained engine failure and possible damage to the airplane.

DATES: We must receive any comments on this proposed AD by May 9, 2005.

ADDRESSES: Use one of the following addresses to submit comments on this proposed AD:

• By mail: Federal Aviation Administration (FAA), New England Region, Office of the Regional Counsel, Attention: Rules Docket No. 2001-NE-17-AD, 12 New England Executive Park, Burlington, MA 01803-5299.

• By fax: (781) 238-7055.

• By e-mail: 9-ane-adcomment@faa.gov.

You can get the service information identified in this proposed AD from Rolls-Royce plc, P.O. Box 31, Derby DE24 6BJ, UK; telephone 44 (0) 1332 242424; fax 44 (0) 1332 249936.

You may examine the AD docket, by appointment, at the FAA, New England Region, Office of the Regional Counsel, 12 New England Executive Park, Burlington, MA.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION:

Comments Invited

We invite you to submit any written relevant data, views, or arguments regarding this proposal. Send your comments to an address listed under ADDRESSES. Include “AD Docket No. 2001-NE-17-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

Examining the AD Docket

You may examine the AD Docket (including any comments and service information), by appointment, between 8 a.m. and 4:30 p.m., Monday through Friday, except Federal holidays. See ADDRESSES for the location.

Discussion

On January 3, 2005, we issued AD 2005-01-15, Amendment 39-13940 (70 FR 2336, January 13, 2005). That AD requires initial and repetitive ultrasonic inspections of the fan blade dovetail roots and defines a specific terminating action to the repetitive blade inspection requirements. That AD results from a report of a cracked fan blade found before the blade reached the initial inspection threshold of AD 2002-11-08. That AD also resulted from the need to reduce a repetitive inspection compliance time due to potential breakdown of blade coating and lubrication on certain blades.

Actions Since AD 2005-01-15 Was Issued

Since we issued AD 2005-01-15, we received a comment from an operator requesting that we clarify the terminating action in that AD. As the AD is currently written, LPC fan blades must be installed in complete sets to comply with the terminating action. We agree that the terminating action needs clarification. All blades must be replaced with blades that meet the replacement criteria to qualify as terminating action, but not necessarily replaced as a complete set. We have rewritten paragraph (h) in this proposed AD to address the commenter's request.

Relevant Service Information

We have reviewed and approved the technical contents of Rolls-Royce (RR) Alert Service Bulletin (ASB) No. RB.211-72-AD344, Revision 7, dated March 12, 2004, that provides procedures to ultrasonic-inspect the blade root on LPC fan blades. We have also reviewed and approved the technical contents of RR Service Bulletin (SB) No. RB.211-72-D672, dated February 1, 2002, that provides procedures to rework, relubricate, and remark the fan blades at fan blade overhaul, and lists part numbers for new fan blades that feature additional blade root processing requirements. The Civil Aviation Authority (CAA), which is the airworthiness authority for the United Kingdom (UK), classified these service bulletins as mandatory and issued AD G-2004-0008, dated April 29, 2004, in order to ensure the airworthiness of these RR engines in the UK.

Bilateral Agreement Information

These engine models are manufactured in the UK and are type certificated for operation in the United States under the provisions of § 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

FAA's Determination and Requirements of the Proposed AD

We have evaluated all pertinent information and identified an unsafe condition that is likely to exist or develop on other products of this same type design. Therefore, we are proposing this AD, which would require the following:

• Require initial and repetitive ultrasonic-inspections of the dovetail roots of LPC fan blades P/Ns FK30838, FK30840, FK30842, FW12960, FW12961, FW12962, and FW13175.

• Define a terminating action to the repetitive blade inspection requirements in the AD, to be done at the next shop visit when fan blades are removed, but no later than December 31, 2009. The terminating action would consist of replacing LPC fan blades with reworked, relubricated, and remarked LPC fan blades, using Rolls-Royce SB No. RB.211-72-D672, dated February 1, 2002, or with LPC fan blades that feature additional blade root processing requirements.

The proposed AD would require that you do these actions using the service information described previously.

Costs of Compliance

There are about 350 RR RB211 Trent 875, 877, 884, 884B, 892, 892B, and 895 series turbofan engines of the affected design in the worldwide fleet. We estimate that 90 engines installed on airplanes of U.S. registry would be affected by this proposed AD. We also estimate that it would take about 8 work hours per engine to perform the proposed inspections, and about 260 work hours per engine to perform the proposed terminating action. The average labor rate is $65 per work hour. Based on these figures, we estimate the total cost of the proposed AD to U.S. operators to be $1,567,800.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2001-NE-17-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13940 (70 FR 2336, January 13, 2005) and by adding a new airworthiness directive, to read as follows:

Rolls-Royce plc: Docket No. 2001-NE-17-AD.

Comments Due Date

(a) The Federal Aviation Administration (FAA) must receive comments on this airworthiness directive (AD) action by May 9, 2005.

Affected ADs

(b) This AD revises AD 2005-01-15, Amendment 39-13940.

Applicability

(c) This AD applies to Rolls-Royce plc (RR) RB211 Trent 875, 877, 884, 884B, 892, 892B, and 895 series turbofan engines with low pressure compressor (LPC) fan blades, part numbers (P/Ns) FK30838, FK30840, FK30842, FW12960, FW12961, FW12962, and FW13175, installed. These engines are installed on, but not limited to, Boeing Company 777 series airplanes.

Unsafe Condition

(d) This AD results from a request by an operator to clarify the terminating action in AD 2005-01-15. We are issuing this AD to prevent multiple LPC fan blade failures due to cracks, which could result in uncontained engine failure and possible damage to the airplane.

Compliance

(e) You are responsible for having the actions required by this AD performed within the compliance times specified unless the actions have already been done.

(f) Ultrasonic-inspect and disposition the dovetail roots of LPC fan blades, P/Ns FK30838, FK30840, FK30842, FW12960, FW12961, FW12962, and FW13175, that are removed from the engine, using 3.A.(1) through 3.A.(5) or, for blades that are not removed from the engine, using 3.B.(1) through 3.B.(5) of the Accomplishment Instructions of RR Alert Service Bulletin (ASB) No. RB.211-72-AD344, Revision 7, dated March 12, 2004, as follows:

(1) For blades P/Ns FK30838, FK30840, and FK30842, that have not been relubricated during any interval exceeding 600 cycles-since-new (CSN) or 600 cycles-since-rework (CSR) using either RR ASB No. RB.211-72-AD344 or Service Bulletin (SB) No. RB.211-72-D347, inspect as specified in paragraph (f) of this AD and within the compliance times specified in the following Table 1:

Table 1.—Compliance Times for Blades P/Ns FK30838, FK30840, and FK30842
Engine series | Boeing 777 series | Airplane maximum gross weight (times 1,000 pounds) | Initial inspection CSN | Repetitive inspection (cycles-since-last-inspection) (CSLI)
(i) -884B, -892 | -300 | (A) 660 and 632.5 (B) 580 | 600 2,000 | 80 600
(ii) -884, -892, -892B, and -895 | -200 | (A) 632.5 and 648 | 1,200 | 100
|  | (B) 656 (C) 555 | 600 2,000 | 80 600
(iii) -875 | -200 | 535 | 2,000 | 600
(iv) -877 | -200 | 545 | 2,000 | 600

(2) For blades P/Ns FK30838, FK30840, and FK30842, that have been relubricated at intervals not exceeding 600 CSN or 600 CSR using either RR ASB No. RB.211-72-AD344 or SB No. RB.211-72-D347, inspect as specified in paragraph (f) of this AD and within the compliance times specified in the following Table 2:

Table 2.—Compliance Times for Blades P/Ns FK30838, FK30840, and FK30842
Engine series | Boeing 777 series | Airplane maximum gross weight (times 1,000 pounds) | Initial inspection CSN | Repetitive inspection CSLI
(i) -884B, 892 | -300 | (A) 660 and 632.5 (B) 580 | 600 2,400 | 80 600
(ii) -884, -892, -892B, and -895 | -200 | (A) 632.5 and 648 | 1,200 | 100
|  | (B) 656 (C) 555 | 600 2,400 | 80 600
(iii) -875 | -200 | 535 | 2,400 | 600
(iv) -877 | -200 | 545 | 2,400 | 600

(3) For blades P/Ns FW12960, FW12961, FW12962, and FW13175, either new or reworked to that configuration at greater than 600 CSN or since previous rework, or that have not been relubricated during any interval exceeding 600 CSN or 600 CSR using either RR ASB No. RB.211-72-AD344 or SB No. RB.211-72-D347 requirements, inspect as specified in paragraph (f) of this AD and within the compliance times specified in the following Table 3:

Table 3.—Compliance Times for Blades P/Ns FW12960, FW12961, FW12962, and FW13175
Engine series | Boeing 777 series | Airplane maximum gross weight (times 1,000 pounds) | Initial inspection CSN | Repetitive inspection CSLI
(i) -884B, -892 | -300 | (A) 660 and 632.5 (B) 580 | 600 2,000 | 100 600
(ii) -884, -892, -892B and -895 | -200 | (A) 632.5 and 648 | 1,200 | 125
|  | (B) 656 (C) 555 | 600 2,000 | 100 600
(iii) -875 | -200 | 535 | 2,000 | 600
(iv) -877 | -200 | 545 | 2,000 | 600

(4) For blades P/Ns FW12960, FW12961, FW12962, and FW13175, either new or reworked to that configuration at fewer than 600 CSN or since previous rework, and that have been relubricated at intervals not exceeding 600 CSN using either RR ASB No. RB.211-72-AD344 or SB No. RB.211-72-D347, inspect as specified in paragraph (f) of this AD and within the compliance times specified in the following Table 4:

Table 4.—Compliance Times for Blades P/Ns FW12960, FW12961, FW12962, and FW13175
Engine series | Boeing 777 series | Airplane maximum gross weight (times 1,000 pounds) | Initial inspection CSN | Repetitive inspection CSLI
(i) -884B, -892 | -300 | (A) 660 and 632.5 (B) 580 | 600 2,400 | 100 1,200
(ii) -884, -892, -892B, and -895 | -200 | (A) 632.5 and 648 | 2,400 | 125
|  | (B) 656 (C) 555 | 600 2,400 | 100 1,200
(iii) -875 | -200 | 535 | 2,400 | 1,200
(iv) -877 | -200 | 545 | 2,400 | 600

(g) When engines containing blades P/Ns FK30838, FK30840, FK30842, FW12960, FW12961, FW12962, and FW13175 are moved from one gross weight category to another, the inspection schedule that is applicable to the higher gross weight category must be used.

Terminating Action

(h) As terminating action to the repetitive inspection requirements of this AD, at the next shop visit when the LPC fan blades are removed for repair or overhaul, but no later than December 31, 2009:

(1) Replace LPC fan blades P/Ns FK30838, FK30840, FK30842, FW12960, FW12961, FW12962, or FW13175, with serviceable LPC fan blades.

(2) For the purposes of this AD, serviceable LPC fan blades are blades that feature additional blade root processing requirements found in RR SB No. RB.211-72-D672, dated February 1, 2002; or are LPC fan blades that feature a full form root profile. Information on full form root profile blades can be found in RR SB No. RB.211-72-D390, RR SB No. RB.211-72-E044, and RR SB No. RB.211-72-E382.

Previous Credit

(i) Previous credit is allowed for initial inspections of fan blades that were done using RR ASB No. RB.211-72-AD344, Revision 4, dated March 15, 2002, Revision 5, dated June 20, 2003, Revision 6, dated February 27, 2004, or Revision 7, dated March 12, 2004, before the effective date of this AD.

Alternative Methods of Compliance

(j) The Manager, Engine Certification Office, has the authority to approve alternative methods of compliance for this AD if requested using the procedures found in 14 CFR 39.19.

Related Information

(k) Civil Aviation Authority (CAA) airworthiness directive G-2004-0008, dated April 29, 2004, also addresses the subject of this AD.

Issued in Burlington, Massachusetts, on March 2, 2005.
Jay J. Pardee,
Manager, Engine and Propeller Directorate, Aircraft Certification Service.

[FR Doc. 05-4561 Filed 3-8-05; 8:45 am]

BILLING CODE 4910-13-P